ENVIRONMENTAL PROTECTION AGENCY

[FRL-9948-69-OA]

Notification of a Partially Closed Meeting of the Science Advisory Board's 2016-2018 Scientific and Technological Achievement Awards Committee

AGENCY: Environmental Protection Agency (EPA).

ACTION: Notice.

SUMMARY: The Environmental Protection Agency's (EPA), Science Advisory Board (SAB) Staff Office is announcing a meeting of the SAB's 2016-2018 Scientific and Technological Achievement Awards (STAA) Committee to discuss draft recommendations for the chartered SAB regarding the Agency's 2016 STAA recipients. A portion of the meeting will be closed to the public.

DATES: The meeting dates are Monday, August 15, 2016, from 8:00 a.m. to 6:00 p.m. (Eastern Time), and Tuesday, August 16, 2016, from 8:00 a.m. to 3:00 p.m. (Eastern Time). The public portion of the meeting will be held on Monday, August 15, 2016, from 1:00 p.m. to 4:00 p.m. (Eastern Time). The remainder of the meeting will be closed to the public.

ADDRESSES: The meeting will be held at the Melrose Georgetown Hotel, 2430 Pennsylvania Avenue NW., Washington, DC 20037.

FOR FURTHER INFORMATION CONTACT: Members of the public who wish to obtain further information regarding the meeting of the 2016-2018 Staff Committee may contact Edward Hanlon, Designated Federal Officer, by telephone: (202) 564-2134 or email at hanlon.edward@epa.gov. The SAB Mailing address is EPA Science Advisory Board Staff Office (1400R), U.S. Environmental Protection Agency, 1200 Pennsylvania Avenue NW., Washington, DC 20460. General information about the SAB as well as updates concerning the SAB meeting announced in this notice may be found on the SAB Web site at http://www.epa.gov/sab.

SUPPLEMENTARY INFORMATION:

Background: Pursuant to section 10(d) of the Federal Advisory Committee Act (FACA), 5 U.S.C. App. 2, and section (c)(6) of the Government in the Sunshine Act, 5 U.S.C. 552b(c)(6), the EPA has determined that a portion of the 2016-2018 STAA Committee meeting will be closed to the public. The purpose of the closed portion of the meeting is for the Committee to discuss draft recommendations regarding recipients of the Agency's 2016 Scientific and Technological Achievement Awards. The purpose of the open portion of the meeting, which will occur on Monday, August 15, 2016, from 1:00 p.m. to 4:00 p.m. (Eastern Time), is to discuss administrative changes to the STAA nomination procedures, and the criteria for deciding which STAA nominations merit award.

The STAA awards are established to honor and recognize EPA employees who have made outstanding contributions in the advancement of science and technology through their research and development activities, as exhibited in publication of their results in peer reviewed journals. I have determined that a portion of the 2016-2018 STAA Committee meeting will be closed to the public because it is concerned with recommending employees deserving of awards. In making these draft recommendations, the SAB requires full and frank advice from the Committee. This advice will involve professional judgments on the relative merits of various employees and their respective work. Such personnel matters involve the discussion of information that is of a personal nature and the disclosure of which would be a clearly unwarranted invasion of personal privacy and, therefore, are protected from disclosure by section (c)(6) of the Government in the Sunshine Act, 5 U.S.C. 552b(c)(6). Minutes of the 2016-2018 STAA Committee meeting will be kept and certified by the chair.

Availability of Meeting Materials: Prior to the public portion of the meeting, the agenda and other materials will be accessible through the meeting link on the SAB home page at http://www.epa.gov/sab/.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Interested members of the public may submit relevant information on the topic of the public portion of this advisory activity, and/or the group conducting the activity, for the SAB to consider during the advisory process. Input from the public to the SAB will have the most impact if it provides specific scientific or technical information or analysis for SAB committees and panels to consider or if it relates to the clarity or accuracy of the technical information. Members of the public wishing to provide comment should contact the DFO directly.

Oral Statements: In general, individuals or groups requesting an oral presentation at an SAB public meeting will be limited to five minutes. Interested parties wishing to provide comments at the public portion of the August 15, 2016 meeting should contact Mr. Hanlon, DFO, in writing (preferably via email) at the contact information noted above by August 8, 2016, to be placed on the list of public speakers for the meeting.

Written Statements: Written statements will be accepted throughout the advisory process; however, for timely consideration by Committee members, statements should be supplied to Mr. Hanlon, DFO (preferably via email) at the contact information noted above by August 8, 2016. It is the SAB Staff Office general policy to post written comments on the Web page for advisory meetings. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Hanlon at the contact information provided above. To request accommodation of a disability, please contact Mr. Hanlon preferably at least ten days prior to the meeting to give EPA as much time as possible to process your request.

Dated: June 27, 2016.
Gina McCarthy,
Administrator.

[FR Doc. 2016-15856 Filed 7-1-16; 8:45 am]

BILLING CODE 6560-50-P